Title 3—

The President

Proclamation 8183 of October 1, 2007

National Domestic Violence Awareness Month, 2007

By the President of the United States of America

A Proclamation

Families are indispensable to a stable society, and they should be a place of support to instill responsibility and values in the next generation. When a family member is abused, it can have long-term damaging effects on the victim that leave a mark on family, friends, and the community at large. Our society must continue to work to prevent domestic violence and help create a loving and stable environment for our children and grandchildren.

National Domestic Violence Awareness Month is an opportunity to renew our commitment to preventing domestic violence and to assisting those who suffer from its devastating effects. My Administration is dedicated to helping victims of domestic violence. The Family Justice Center Initiative, announced in 2003, continues to work towards eradicating domestic violence in our Nation. This program provides assistance and services for victims of domestic violence by bringing professionals, advocates, law enforcement, and organizations together at centers nationwide. In 2006, I signed legislation that reauthorized the Violence Against Women Act to fight domestic violence, dating violence, sexual assault, and stalking. We also are working with faith-based and community organizations to assist victims in need. In addition, the Department of Justice's Domestic Violence Transitional Housing Assistance Program provides access to transitional housing services while working to move victims of violence into permanent housing.

As we observe National Domestic Violence Awareness Month, we underscore our commitment to building an America where all citizens can live with dignity, work productively, and achieve their dreams. We encourage victims and their families and friends to seek assistance through Family Justice Centers and to contact the National Domestic Violence Hotline at 1-800-799-SAFE. Together, we can help prevent, recognize, and stop domestic violence in America.

NOW, THEREFORE, I, GEORGE W. BUSH, President of the United States of America, by virtue of the authority vested in me by the Constitution and the laws of the United States, do hereby proclaim October 2007 as National Domestic Violence Awareness Month. I urge all Americans to reach out to those who have been abused and help educate people about the vital importance of ending domestic violence.

IN WITNESS WHEREOF, I have hereunto set my hand this first day of October, in the year of our Lord two thousand seven, and of the Independence of the United States of America the two hundred and thirty-second.

[FR Doc. 07-4962

Filed 10-3-07; 9:09 am]

Billing code 3195-01-P